DEPARTMENT OF COMMERCE

International Trade Administration

[A-570-863]

Honey From the People's Republic of China: Notice of Partial Rescission of Antidumping Duty Administrative Review

AGENCY: Import Administration, International Trade Administration, Department of Commerce.

SUMMARY: On January 22, 2004, the Department of Commerce (the Department) published in the Federal Register (69 FR 3117) a notice announcing the initiation of the administrative review of the antidumping duty order on honey from the People's Republic of China. The period of review (POR) is December 1, 2002, to November 30, 2003. This review is now being rescinded for Anhui Honghui Foodstuff (Group) Co., Ltd. (“Anhui Honghui”); Cheng Du Wai Yuan Bee Products Co., Ltd. (“Cheng Du”); Eurasia Bee's Products Co., Ltd. (“Eurasia Bee”); Inner Mongolia Youth Trade Development Co., Ltd. (“Inner Mongolia Youth”); and Jiangsu Kanghong Natural Healthfoods Co., Ltd. (“Jiangsu Kanghong”) because the requesting parties withdrew their review requests.

DATES: Effective Date: April 27, 2004.

FOR FURTHER INFORMATION CONTACT: Helen Kramer or Abdelali Elouaradia, Enforcement Group III, Office 8, Import Administration, International Trade Administration, U.S. Department of Commerce, 14th Street and Constitution Avenue, NW., Room 7866, Washington, DC 20230; telephone (202) 482-0405 or (202) 482-1374, respectively.

SUPPLEMENTARY INFORMATION

Scope of Review

The merchandise under review is honey from the PRC. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90 and 2106.90.99 of the Harmonized Tariff Schedule of the United States (HTSUS). Although the HTSUS subheading is provided for convenience and customs purposes, the written description of the merchandise under review is dispositive.

Background

On December 10, 2001, the Department of Commerce (the Department) published in the Federal Register an antidumping duty order covering honey from the People's Republic of China (PRC). See Notice of Amended Final Determination of Sales at Less Than Fair Value and Antidumping Duty Order; Honey from the People's Republic of China, 66 FR 63670 (December 10, 2001). On December 2, 2003, the Department published a Notice of Opportunity to Request an Administrative Review of Antidumping or Countervailing Duty Order, Finding, or Suspended Investigation, 68 FR 67401. On December 29, 2003, Anhui Honghui, Eurasia Bee, and Jiangsu Kanghong requested that the Department conduct an administrative review of each respective company's entries during the POR. On December 31, 2003, the American Honey Producers Association and the Sioux Honey Association (collectively, petitioners), requested, in accordance with section 351.213(b) of the Department's regulations, an administrative review of entries of subject merchandise made during the POR by 20 Chinese producers/exporters, which included Anhui Honghui; Anhui Native Produce Import & Export Corp. (“Anhui Native”); Cheng Du; Eurasia Bee; Foodworld International Club, Ltd. (“Foodworld”); Henan Native Produce and Animal By-Products Import & Export Company (“Henan”); High Hope International Group Jiangsu Foodstuffs Import & Export Corp. (“High Hope”); Inner Mongolia Youth; Jiangsu Kanghong; Jinan Products Industry Co., Ltd. (“Jinan”); and Native Produce and Animal Import & Export Co. (“Native Produce”). On January 14, 2004, the petitioners filed a letter withdrawing their request for review of Henan, High Hope, Jinan, and Native Produce. On January 22, 2003, the Department initiated the review for the remaining 16 companies. See Initiation of Antidumping and Countervailing Duty Administrative Reviews and Requests for Revocation in Part, 68 FR 3009. On February 13, 2004, and February 18, 2004, petitioners withdrew their request for review of Foodworld and Anhui Native, respectively. On March 10, 2004, the Department rescinded the review for Foodworld and Anhui Native. See Honey from the People's Republic of China: Notice of Partial Rescission of Antidumping Duty Administrative Review, 69 FR 11383.

Separately, the Department also received timely requests in accordance with 19 CFR 351.214(c) from Anhui Honghui, Cheng Du, Eurasia Bee, Inner Mongolia Youth and Jiangsu Kanghong for new shipper reviews of the antidumping duty order on honey from the PRC. On February 6, 2004, we published a notice initiating new shipper reviews for each of these companies' sales during the same POR as this administrative review. See Honey from the People's Republic of China: Initiation of New Shipper Duty Administrative Reviews, 69 FR 5835. On February 24, 2004, Cheng Du stated that it did not have any direct or indirect export sales of honey to the United States during the POR that are not already covered by the separate new shipper review covering the period December 1, 2002, through May 31, 2003, and therefore requested that the Department rescind this proceeding for Cheng Du. On February 25, 2004, Inner Mongolia Youth stated that the only sale it made during the POR was currently being reviewed by the separate new shipper review and requested that the Department rescind this administrative review for Inner Mongolia Youth. On March 5, 2004, Anhui Honghui, Eurasia Bee and Jiangsu Kanghong withdrew their requests for the administrative review covering the POR because all of their entries of subject merchandise during the POR are already subject to the new shipper review initiated by the Department. On March 12, 2004, petitioners also withdrew their request for an administrative review of entries made by Anhui Honghui, Cheng Du, Eurasia Bee, Inner Mongolia Youth, and Jiangsu Kanghong.

Rescission of Review

The applicable regulation, 19 CFR 351.213(d)(1), states that if a party that requested an administrative review withdraws the request within 90 days of the publication of the notice of initiation of the requested review, the Secretary will rescind the review. Anhui Honghui, Eurasia Bee, and Jiangsu Kanghong withdrew their review requests within the 90-day deadline, in accordance with 19 CFR 351.213(d)(1). The petitioners also withdrew their review request for these three companies within the 90-day deadline, in accordance with 19 CFR 351.213(d)(1). Thus, since all requesting parties withdrew their requests for review, we are rescinding this review of the antidumping duty order on honey from the PRC covering the period December 1, 2002, through November 30, 2003, with respect to Anhui Honghui, Eurasia Bee, and Jiangsu Kanghong. Also, since petitioners were the only party to request an administrative review of Cheng Du and Inner Mongolia Youth, and petitioners withdrew their review request for these two companies, we are rescinding this review of the antidumping duty order on honey from the PRC covering the period December 1, 2002, through November 30, 2003, with respect to Cheng Du and Inner Mongolia Youth.

This notice is issued and published in accordance with sections 751 and 777(i) of the Act and 19 CFR 351.213(d)(4).

Dated: April 19, 2004.
James J. Jochum,
Assistant Secretary for Import Administration.

[FR Doc. 04-9476 Filed 4-26-04; 8:45 am]

BILLING CODE 3510-DS-P